DEPARTMENT OF HEALTH AND HUMAN SERVICES

National Institutes of Health

Office of Biotechnology Activities, Office of Science Policy, Office of the Director; Amended Notice of Meeting

Notice is hereby given of a change in the meeting of the National Science Advisory Board for Biosecurity (NSABB), November 21, 2005, 9 a.m. to 6 p.m., National Institutes of Health, Building 31, Conference Room 10, C-Wing, Bethesda, MD 20892 which was published in the Federal Register on November 1, 2005, 70 FRN65908-65909.

The meeting has been changed to include a closed session immediately following the open session of the NSABB meeting. The meeting will be closed to the public in accordance with the provisions set forth in sections 552b(c)(4) and 552b(c)(6), Title 5 U.S.C., as amended.

Dated: November 16, 2005.
Anna Snouffer,
Acting Director, Office of Federal Advisory Committee Policy.

[FR Doc. 05-23348 Filed 11-25-05; 8:45 am]

BILLING CODE 4140-01-M